DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains and associated funerary objects in the possession of the University of Colorado Museum, Boulder, CO. The human remains and associated funerary objects were removed from unknown sites in the Southwestern United States.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains and associated funerary objects was made by University of Colorado Museum professional staff in consultation with representatives of the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico.

Sometime in the 1920s, human remains representing a minimum of four individuals were removed from unknown sites in the Southwestern United States, most likely excavated by Earl H. Morris of the University of Colorado Museum, and cataloged into the museum collection (catalog numbers 04797-1, 04797-2, 04797-3, and 04797-4). No known individuals were identified. No associated funerary objects are present.

Based on the excavator and the collecting history of the museum, the human remains are reasonably believed to be Native American. Based on the excavator and the collecting history of the museum the human remains are reasonably believed to be Puebloan.

On an unknown date, human remains representing a minimum of one individual were removed from an unknown site in the Southwestern United States. In May 1961, they were purchased by the University of Colorado Museum from Gervis W. Hoofnagle and cataloged into the museum collection (catalog number 22237). No known individual was identified. No associated funerary objects are present.

On an unknown date, human remains representing a minimum of one individual were removed from an unknown site in the Southwestern United States. In May 1961, they were purchased by the University of Colorado Museum from Mr. Hoofnagle and cataloged into the museum collection (catalog number 22251). No known individual was identified. The one associated funerary object is a glass bead.

Based on Mr. Hoofnagle's notebook entries, the human remains are Native American. Based on Mr. Hoofnagle's notebook entries, the human remains are reasonably believed to be Puebloan.

On an unknown date, but sometime between 1915 and 1935, human remains representing a minimum of six individuals were removed from unknown sites in the Southwestern United States, by Mr. Morris of the University of Colorado Museum, and cataloged into the museum collection (catalog numbers 45219f-1 to 45219f-6). No known individuals were identified. No associated funerary objects are present.

In 1939, the six individuals collected by Mr. Morris were sent for analysis to the Peabody Museum of Archaeology and Ethnology, Harvard University, Cambridge, MA. They were returned to the University of Colorado Museum in 1996. Based on the excavator and analysis during the loan to the Peabody Museum, the human remains are reasonably believed to be Native American and Puebloan.

On an unknown date, human remains representing a minimum of one individual were removed from an unknown site in the Southwestern United States, by an unknown person. In 1980, the human remains were donated to the museum by an unknown party and cataloged into the museum collection (catalog number 99138). The only information associated with the human remains is that they came from the Southwestern United States. No known individual was identified. No associated funerary objects are present.

Based on the acquisition date and circumstance, the human remains are reasonably believed to be Native American. Based on the provenience and museum's scope of collections, the human remains are reasonably believed to be Puebloan.

On an unknown date, human remains representing a minimum of one individual were removed from an unknown site in the Southwestern United States, by an unknown person. In 1993, the human remains were identified during an inventory of human remains and cataloged into the museum collection (catalog number 99096). The only information associated with the human remains is that they came from the Southwestern United States. They were probably transferred to the museum by another University of Colorado department for NAGPRA compliance. No known individual was identified. No associated funerary objects are present.

Based on provenience and the physical transfer probably for NAGPRA compliance, the human remains are reasonably believed to be Native American. Based on the provenience, the human remains are reasonably believed to be Puebloan.

On an unknown date, human remains representing a minimum of nine individuals were removed from an unknown site or sites in the Southwestern United States, by an unknown person or persons. In 2000-2001, the human remains were identified during an inventory of human remains in the museum and cataloged (catalog numbers 99500- 99508). The only information associated with the human remains is that they came from the Southwestern United States. They were probably transferred to the museum by another University of Colorado department for NAGPRA compliance. No known individuals were identified. No associated funerary objects are present.

Based on provenience and the physical transfer probably for NAGPRA compliance, the human remains are reasonably believed to be Native American. Based on the provenience, the human remains are reasonably believed to be Puebloan.

All individuals listed in this Notice of Inventory Completion are reasonably believed to be Puebloan based on the provenience; acquisition and loan circumstances; history of the museum and excavator; museum's scope of collecting; and associated documentation. Based on a preponderance of evidence, a shared group identity can be traced between Puebloan peoples based on oral tradition, historical evidence, folklore, archeology, geography, linguistics, kinship, and scientific studies, and modern Puebloan groups. Modern Puebloan peoples are members of the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico

Oral-tradition evidence, which consisted of migration stories, clan histories, and origin stories, was provided by the Hopi Tribe, Navajo Nation, Pueblo of Acoma, Pueblo of Isleta, Pueblo of Jemez, Pueblo of Laguna, Pueblo of Nambe, Pueblo of Pojoaque, Pueblo of San Ildefonso, Pueblo of San Juan, Pueblo of Santa Ana, Pueblo of Santa Clara, Pueblo of Taos, Pueblo of Tesuque, Pueblo of Zia, Ysleta del Sur Pueblo, and Zuni Tribe. Folkloric evidence in the form of songs was provided by tribal representatives of the Pueblo of Acoma, Pueblo of Cochiti, Pueblo of Isleta, Pueblo of Nambe, and Pueblo of San Ildefonso. Tribal representatives of the Pueblo of Acoma, Pueblo of Nambe, Pueblo of San Ildefonso, and Pueblo of Taos provided linguistic evidence rooted in place names. Pueblo of Cochiti, Pueblo of Nambe, Pueblo of San Ildefonso, and Pueblo of Santa Clara provided archeological evidence based on architecture and material culture of their shared relationship. According to scientific studies and oral tradition, the Navajo share some cultural practices with modern Puebloan peoples; and during consultation, tribal representatives of the Navajo Nation emphasized their long presence in the Four Corners and their origin in this area, but there is not a preponderance of evidence to support Navajo cultural affiliation to the human remains described in this notice.

Officials of the University of Colorado Museum have determined that, pursuant to 25 U.S.C. 3001 (9-10), the human remains described above represent the physical remains of 23 individuals of Native American ancestry. Officials of the University of Colorado Museum have also determined that, pursuant to 25 U.S.C. 3001 (3)(A), the one object described above is reasonably believed to have been placed with or near individual human remains at the time of death or later as part of the death rite or ceremony. Lastly, officials of the University of Colorado Museum have determined that, pursuant to 25 U.S.C. 3001 (2), there is a relationship of shared group identity that can be reasonably traced between the Native American human remains and associated funerary object and the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico.

Representatives of any other Indian tribe that believes itself to be culturally affiliated with the human remains and associated funerary object should contact Steve Lekson, Curator of Anthropology, University of Colorado Museum, Henderson Building, Campus Box 218, Boulder, CO 80309-0218, telephone (303) 492-6671, before September 18, 2006. Repatriation of the human remains and associated funerary object to the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico may proceed after that date if no additional claimants come forward.

The University of Colorado is responsible for notifying the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico that this notice has been published.

Dated: July 24, 2006
Sherry Hutt
Manager, National NAGPRA Program

[FR Doc. E6-13584 Filed 8-16-06; 8:45 am]

BILLING CODE 4312-50-S